DEPARTMENT OF AGRICULTURE

Forest Service

Notice of Resource Advisory Committee Meeting

AGENCY: Crook County Resource Advisory Committee, Sundance, Wyoming, USDA, Forest Service.

ACTION: Notice of meeting.

SUMMARY: Pursuant to the authorities in the Federal Advisory Committee Act (Pub. L. 92-463) and under the Secure Rural Schools and Community Self-Determination Act of 2000 (Pub. L. 106-393) the Black Hills National Forests' Crook County Resource Advisory Committee will meet Monday March 24, 2003 in Sundance, Wyoming for a business meeting. The meeting is open to the public.

SUPPLEMENTARY INFORMATION: The business meeting on March 24, begins at 6:30 p.m., at U.S. Forest Service, Bearlodge Ranger District office, 121 South 21st Street, Sundance, Wyoming. Agenda topics will include presentations by and discussion with project proposal submitters. A public forum will begin at 9 PM (MT).

FOR FURTHER INFORMATION CONTACT: Steve Kozel, Bearlodge District Ranger and Designated Federal Officer, at (307) 283-1361.

Dated: March 4, 2003.
Steve Kozel,
Bearlodge District Ranger.

[FR Doc. 03-5854 Filed 3-11-03; 8:45 am]

BILLING CODE 3410-11-M